DEPARTMENT OF DEFENSE

Department of the Army

[Docket ID USA-2008-0061]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on October 31, 2008 unless comments are received which result in a contrary determination.

ADDRESSES: Department of the Army, Freedom of Information/ Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 23, 2008.
Patricia L. Toppings,
OSD Federal Register Liaison Officer, Department of Defense.

A0027-60b DAJA

System name:

Patent, Copyright, and Data License Proffers, Infringement Claims, and Litigation Files (February 15, 2002, 67 FR 7140).

Changes:

* * * * *

System location:

Delete entry and replace with “Office of the Judge Advocate General, Department of the Army, Intellectual Property Office, Regulatory Law and Intellectual Property Division, 901 North Stuart Street, Arlington, VA 22203-1837.

Segments of this system may exist at the Office, Chief of Engineers, Headquarters, U.S. Army Materiel Command, and/or its major subordinate field commands.”

* * * * *

A0027-60b DAJA

System name:

Patent, Copyright, and Data License Proffers, Infringement Claims, and Litigation Files.

System location:

Office of the Judge Advocate General, Department of the Army, Intellectual Property Office, Regulatory Law and Intellectual Property Division, 901 North Stuart Street, Arlington, VA 22203-1837.

Segments of this system may exist at the Office, Chief of Engineers, Headquarters, U.S. Army Materiel Command, and/or its major subordinate field commands.

Categories of individuals covered by the system:

Claimants or defendants in administrative proceedings or litigation with the government for improper use, infringement, enforcement of agreements, or comparable claims concerning patents or copyrights; individuals having copyrights in material in which the Department of the Army is interested; individuals who own patents which they offer to license to Department of the Army; individuals seeking private relief before the Congress because of right in inventions, patents, copyrights, or data licenses.

Categories of records in the system:

Documents relating to the administrative assertion of claims by and against the government and to litigation with the government for alleged misuse of patents, copyrights, trademarks, and data, including inquiries, investigations, settlements, communications with claimants or defendants, and related correspondence; documents relating to advice and assistance provided in obtaining licenses for Department of the Army use of copyright material; documents relating to the investigation and disposition of patent license offers; documents relating to investigations in connection with processing proposed legislation or bills for private relief of individuals because of rights of individuals in inventions, patents, copyrights, or data, including reports of investigations, comments or recommendations, and related correspondence.

Authority for maintenance of the system:

10 U.S.C. 3013, Secretary of the Army; 17 U.S.C., Copyrights; 15 U.S.C. Chapter 22, Trademarks; 15 U.S.C. Chapter 63, Technology Innovation; Army Regulation, 27-40, Litigation; Army Regulation 27-60, Intellectual Property; Army Regulation 70-57, Military-Civilian Technology Transfer; DA PAM 27-11, Army Patents; and E.O. 9397 (SSN).

Purpose(s):

To maintain evidence and record of claims and litigation involving Department of the Army concerning patents, trademarks, copyrights, and data; to maintain evidence and record of Department of the Army attempts to use copyrighted material and to receive the copyright owner's permission for such use; to maintain record and evidence of patent license offers received and investigations and reports pursuant thereto; and to maintain record and evidence of investigations of proposed legislation or bills for private relief.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To non-DoD government agencies involved in claims or litigation to determine the validity of allegations for the purposes of properly prosecuting or defending the case.

To Department of the Justice Civil Division to determine the validity of allegations for proper prosecution or defense of allegations in claims or litigation.

To Congress to receive reports for the purpose of determining the Department of the Army's position on particular bills for private relief.

To law students to permit them to provide legal support for the purposes of participating in a volunteer legal support program approved by the Judge Advocate General of the Army.

The DoD `Blanket Routine Uses' set forth at the beginning of the Army's compilation of systems of records notices also apply to this system.

Policies and practices for storing, retrieving, accessing, retaining, and disposing of records in the system:

Storage:

Paper records in file folders and on electronic storage media.

Retrievability:

By individual's surname and/or case number.

Safeguards:

Records are maintained in buildings which employ security guards and are accessed only by authorized personnel having official need-to-know. Automated segments are protected by controlled system passwords governing access to data.

Retention and disposal:

Infringement allegations, patent license proffers, patent infringement and administrative litigations, data licensing and litigation, copyright infringement and litigation claims are destroyed after 30 years. Request for greater rights, royalty records and intellectual property private litigations are destroyed after 20 years; government asserted claims are destroyed after 25 years, infringement legislative claims are destroyed after 35 years; proffer and infringement claims dockets are maintained in current file area then destroyed after 40 years.

System manager(s) and address:

The Judge Advocate General, Headquarters, Department of the Army, 1777 North Kent Street, Arlington, VA 22209-2194.

Notification procedure:

Individuals seeking to determine whether information about themselves is contained in this system should address written inquiries to the Judge Advocate General, Headquarters, Department of the Army, 1777 North Kent Street, Arlington, VA 22209-2194.

Individual should provide full name, current address and telephone number, case number that appeared on documentation, any other information that will assist in locating pertinent records, and signature.

Record access procedures:

Individuals seeking access to information about themselves contained in this system should address written inquiries to the Judge Advocate General, Headquarters, Department of the Army, 1777 North Kent Street, Arlington, VA 22209-2194.

Individual should provide full name, current address and telephone number, case number that appeared on documentation, any other information that will assist in locating pertinent records, and signature.

Contesting record procedures:

The Army's rules for accessing records, and for contesting contents and appealing initial agency determinations are contained in Army Regulation 340-21; 32 CFR part 505; or may be obtained from the system manager.

Record source categories:

From the individual, the Army organizational element interested in the copyrighted material or offered license, employment records, pertinent government patent files, Department of Justice and/or the government agencies involved in the claims or litigation.

Exemptions claimed for the system:

None.

[FR Doc. E8-23019 Filed 9-30-08; 8:45 am]

BILLING CODE 5001-06-P